DEPARTMENT OF COMMERCE

National Oceanic and Atmospheric Administration

50 CFR Part 635

RIN 0648-BA64

Atlantic Highly Migratory Species; Vessel Monitoring Systems

AGENCY: National Marine Fisheries Service (NMFS), National Oceanic and Atmospheric Administration (NOAA), Commerce.

ACTION: Notice of additional public hearings.

SUMMARY: The National Marine Fisheries Service (NMFS) published a proposed rule on June 21, 2011, concerning modifications to vessel monitoring system (VMS) requirements in Atlantic Highly Migratory Species (HMS) fisheries. The proposed rule contained information on public hearings being held in Saint Petersburg, FL, New Orleans/Kenner, LA, and Atlantic City, NJ. In this notice, NMFS includes information for additional public hearings being held in Manteo, NC, and Peabody, MA.

DATES: The dates and locations for the Manteo, NC, and Peabody, MA, public hearings are in the table below. These hearings are being held in conjunction with the previously planned public hearings for the electronic dealer reporting proposed rule (76 FR 37750).

Table 1—Dates and Locations for Additional Public Hearings
Location | Date | Time | Address
Manteo, NC | July 11, 2011 | 5-8 p.m | Manteo Town Hall, 407 Budleigh St., Manteo, NC 27954.
Peabody, MA | July 26, 2011 | 1-4 p.m | Peabody Institute—West Branch, 603 Lowell Street, Peabody, MA 01960.

ADDRESSES: Please see the DATES section above.

FOR FURTHER INFORMATION CONTACT: Greg Fairclough (phone: 727-824-5399, fax: 727-824-5398) or Michael Clark (phone: 301-713-2347, fax: 301-713-1917).

SUPPLEMENTARY INFORMATION:

Background

See 76 FR 36071, June 21, 2011, for more information regarding the proposed rule. These additional public hearings are being added based on requests by constituents. The additional hearings will provide further opportunity for public comment during the comment period. The public comment period ends on August 1, 2011.

Authority: 16 U.S.C. 971 et seq.; 16 U.S.C. 1801 et seq.

Dated: June 28, 2011.
Margo Schulze-Haugen,
Acting Director, Office of Sustainable Fisheries, National Marine Fisheries Service.

[FR Doc. 2011-16620 Filed 6-30-11; 8:45 am]

BILLING CODE 3510-22-P